DEPARTMENT OF TRANSPORTATION

Federal Aviation Administration

14 CFR Part 71

[Docket No. FAA-2014-0742; Airspace Docket No. 14-ASW-5]

Establishment of Class D and E Airspace; Brookshire, TX

AGENCY: Federal Aviation Administration (FAA), DOT.

ACTION: Final rule.

SUMMARY: This action establishes Class D airspace, Class E surface area airspace, and Class E airspace extending upward from 700 feet above the surface at Brookshire, TX, to accommodate the new air traffic control tower at Houston Executive Airport. The FAA is taking this action for the safe and efficient use of the airspace to contain Instrument Flight Rule (IFR) arrival and departure operations at the airport.

DATES: Effective 0901 UTC, November 10, 2016. The Director of the Federal Register approves this incorporation by reference action under title 1, Code of Federal Regulations, part 51, subject to the annual revision of FAA Order 7400.11 and publication of conforming amendments.

ADDRESSES: FAA Order 7400.11A, Airspace Designations and Reporting Points, and subsequent amendments can be viewed online at http://www.faa.gov/air_traffic/publications/. For further information, you can contact the Airspace Policy Group, Federal Aviation Administration, 800 Independence Avenue SW., Washington, DC 20591; telephone: 1-800-647-5527, or 202-267-8783. The Order is also available for inspection at the National Archives and Records Administration (NARA). For information on the availability of FAA Order 7400.11A at NARA, call 202-741-6030, or go to http://www.archives.gov/federal_register/code_of_federal-regulations/ibr_locations.html. FAA Order 7400.11, Airspace Designations and Reporting Points, is published yearly and effective on September 15.

FOR FURTHER INFORMATION CONTACT: Raul Garza, Jr., Central Service Center, Operations Support Group, Federal Aviation Administration, Southwest Region, 10101 Hillwood Parkway, Fort Worth, TX 76177; telephone: (817) 222-5874.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part, A, Subpart I, Section 40103. Under that section, the FAA is charged with prescribing regulations to assign the use of airspace necessary to ensure the safety of aircraft and the efficient use of airspace. This regulation is within the scope of that authority as it establishes controlled airspace at Houston Executive Airport, Brookshire, TX.

History

On March 28, 2016, the FAA published in the Federal Register a notice of proposed rulemaking (NPRM) to establish Class D and Class E Airspace at Houston Executive Airport, Brookshire, TX (81 FR 17114) Docket No. FAA-2014-0742. Houston Executive Airport opened an operating control tower October 1, 2014. Federal regulations (14 CFR 91.126, 91.127, and 91.129) establish airspace requirements around an operating tower. Interested parties were invited to participate in three informal meetings with the local community held on June 17, June 18, and December 15, 2015, during the course of establishing this airspace, and in this rulemaking effort by submitting written comments on the proposal to the FAA. 146 comments were received by the end of the comment period May 12, 2016. An additional five comments were received after the comment period (one having 322 signatures on a petition opposing the upper altitude limit of 2,700 feet MSL; the petition supports 2,000 feet MSL as acceptable and safer). One commenter requested to withdraw his request. Of the 150 comments, many voiced opinions on different aspects of the proposal as described in more detail below.

Summary of Comments

The FAA received multiple comments from 150 commenters that have been grouped to reflect general subject areas. The groups are categorized as follows;

1. Support of the Class D proposal at 2,500 feet

2. Support of the Class D airspace at 2,000 feet

3. Support of the Class D proposal at 1,700 feet

4. Support for Class D at 2,500 but with Full Circle (4 miles) Airspace without cutout for Sport Flyers Airport

5. Concerns of east-west VFR corridor compression

6. Increase airspace to match Class B airspace

7. Support for Class E airspace only

8. No support for any change to the present airspace allocation

9. Airspace compression in the northeast quadrant under Class B

1. Comment: Support of the Class D proposal at 2,500 feet.

Fifty-one comments supported the proposal, as is, with a top of 2,500 feet MSL. The positive comments ranged from support of the proposal at 2,500 feet MSL to extending and expanding controlled airspace to 2,700 feet MSL. One commenter proposed to increase the upper limit to 2,700 feet MSL. There were a variety of reasons cited in support of the proposal, including the following:

(a) Confusing to have an air traffic control tower but no Class D airspace surrounding the airport. Establishing class D airspace on the FAA sectionals charts will better identify the air traffic control tower to our transient and overflying aircraft.

(b) The air traffic control tower will enhance the safety of the operations and support the continued growth of the airport. Standard clearance from Houston Executive Airport is to maintain heading to 2,000 feet. Don't want aircraft at 2,100 feet. Aircraft transitioning along I-10 are in the direct flight path of departing traffic off TME RWY 18. Aircraft flying over I-10 at 2,000 feet without communicating with the tower could easily result in mid-air collision with departing traffic.

(c) Limiting airspace to 2,000 feet will only encourage pilots to transition the airspace with no communication, which is dangerous.

(d) A few miles north of the airport the Class B airspace begins at 3,000 feet but the majority of the Class B area over the airport is 4,000 feet.

(e) Simply requesting a transition to the tower will make everyone aware of the transitioning aircraft.

(f) The airspace is usually congested with pilots landing or departing Houston Executive Airport or nearby airports and pilots flying VFR alongI-10 at 2,500 feet Class D ceiling is the ceiling pilots have been taught to fly.

(g) Should declare the full circle of 4 NM radius as Class D, including surface to 2,700 feet MSL as done at KHY, KAFW, KFWS, KADS.

(h) The rule if adopted would make the controlled airspace around Houston Executive Airport consistent with comparable towered airfields in the U.S. Sugarland and Conroe were given higher ceiling altitudes than 2,500 feet.

(i) Houston Executive Airport is only airport on the west side of Houston on the I-10 corridor with the ability to handle large cabin class aircraft and a runway length of 6,610 feet.

(j) Not true that having the top of the Class D airspace at 2,500 feet “squeezes VFR aircraft into a narrow band.” It is a simple matter to call Houston Executive Tower and coordinate a clearance to transit the Class D airspace or call Houston Approach and get a clearance to transit through the Class B airspace. Support for Class D Airspace, but radar is necessary.

FAA response: An operating tower that meets 14 CFR part 91 regulations is entitled to the establishment of airspace around the tower. Houston Executive Airport (TME) became operational on October 1, 2014. Unless otherwise authorized or required by ATC, 14 CFR 91.126 and FAA Order 7400.2 states that no person may operate an aircraft to, from, or through, an airport having an operational control tower unless two-way radio communications are maintained between that aircraft and the control tower. Communications must be established prior to 4-nautical miles from the airport, up to and including 2,500 feet AGL.

Although the FAA initially considered a top altitude of 2,700 feet, based on feedback from the first informal meeting and considerations for the safe and efficient use of airspace, the FAA determined that 2,500 feet, as provided in 14 CFR 91.126, is an appropriate altitude for the operations at the airport based on further information received from informal meetings, radar operating practices, and surveillance equipment. The airspace was tailored to provide minimum inconvenience while optimizing safety. Radar equipment is not a requirement for a control tower. This particular tower is a Non Federal Contract Tower; the FAA is not responsible for providing this type of equipment. Currently, airport traffic activity does not meet the threshold for establishing a radar environment.

2. Comment: Support of the Class D airspace at 2,000 feet.

Seventy-six comments opposed the 2,500-foot top and another 322 signed a late-filed petition opposing the altitude of 2,500 feet. This group of 398 did support the creation of the airspace if the top altitude was 2,000 feet MSL. They said reducing tower coordination with a 2,000-foot altitude, and allowing for more separation of airspace between Class B and Class D, would provide a greater and safer transition for aircraft flying along Houston's east/west corridor.

Some of the reasons for limiting top of airspace to 2,000 included:

(a) Other airports (DWH, HQZ, GKY, and SGR) have a top altitude of 2,000 feet.

(b) A 2,500 foot MSL will severely restrict approaches and departures at IWS.

(c) A 2,000 foot ceiling or lower could lessen the effect on the KIWS traffic located 12 NM E of TME, which has a high proportion of VFR and sport pilot traffic. Most IFR departures from KIWS (Runway 15) are cleared to enter controlled airspace heading 270 degrees at 2,000 feet.

(d) Industry standard for Class D is a tower with a 4-NM radius and 2,000 feet MSL.

(e) The most commonly used altitudes are around 1,500 feet; this ensures clearance along the entire route of class B at 2,000 feet and 1000 feet minimum altitude over densely populated terrain. It is also common for westbound traffic to stay just north of I-10 and east-bound traffic stays south of I-10. Much of this VFR traffic doesn't want to communicate with the KTME tower. The wisdom of providing only 500 feet of space between the top of class D and the base of Class B (3,000 feet MSL) within two Victor Airways is in question. By establishing the upper limit of the Class D Airspace to 2,000 feet MSL, pilots would have a 500-foot separation from traffic in both Class B and Class D airspace, instead of only 250 feet separation under the proposal.

FAA response: Transiting VFR aircraft are able to fly through this airspace at 2,000 feet by establishing radio communications and receiving approval by the tower based on the air traffic situation. The same aircraft can fly over the airspace at 2,501 feet without communicating with the tower. The potential for aircraft to be departing Houston Executive Airport and climbing to 2,000 feet with aircraft overflying the same area at 2,001 feet does not provide an adequate safety net. Although there was a comment that Sugar Land Airport had a 2,000 foot top altitude, a review of this comment reveals a top altitude up to, but not including 2,600 feet. David Wayne Hooks Airport does have up to but not including a 2,000 foot top altitude; however, this airport underlies Class B airspace that begins at 2,000 feet. An IFR exit to the west of DWH is capped at 2,000 feet. In making its decision, the FAA reviewed the operations at the airport, informal meeting notes, radar operating practices, and surveillance equipment. With respect to the comment about victor airways, they are in a small section of the class D footprint. Approximately 10 percent underlie Class B Shelf at 3,000 feet. Controlled traffic on V-68 andV-222 will be at 3,000 feet or higher. VFR aircraft are knowledgeable about these airways and are to maneuver themselves to be clear of other aircraft, see and avoid. The airspace was tailored to provide minimum inconvenience while optimizing safety. The FAA has determined that 2,500 feet is an appropriate altitude to enhance safety and allow flexibility to the VFR pilot.

3. Comment: Support of the Class D proposal at 1,700 feet.

One commenter supported Class D airspace with an altitude of 1,700 feet.

FAA response: 14 CFR 91.129 sets minimum altitudes when operating in Class D airspace, unless otherwise required, by the distance from cloud criteria; each pilot of a turbine-powered airplane and each pilot of a large airplane must climb to an altitude of 1,500 feet above the surface as rapidly as possible. The FAA has determined that 2,500 feet is an appropriate altitude to enhance safety and allow flexibility to the VFR pilot.

4. Comment: Support for Class D at 2,500 feet but with Full Circle (4 miles) Airspace without Cutout for Sport Flyers Airport.

FAA response: The informal meetings with the community resulted in reducing the size of the proposed Class D to its current cutout shape. This proposal reduces the allowed 4-nautical mile radius around TME to assist the operators transitioning in and out of Sport Flyers Airport without the need of establishing radio communications with TME. The proposed cutout also allows for accommodation of a private airstrip to the southwest of TME. This cutout complies with established rules in FAA Order 7400.2K Chapter 17-2-3, SATELLITE AIRPORTS, paragraph a. Using shelves and/or cutouts to the extent practicable, exclude satellite airports from the Class D airspace area.

5. Comment: Concerns of east-west VFR corridor compression.

Forty-eight comments were received as to this loss of airspace and to the creation of airspace above 2,000 feet as a safety issue, having a major impact on the VFR community. They commented that the east/west corridor along I-10 has long been a familiar route for VFR pilots transitioning through the airspace for the last thirty years; they enjoy the visual reference and not having to communicate with small airports at the accustomed altitude of 2,000 feet. Comments included:

(a) Compressing transient VFR traffic along I-10 corridor to 500′ vertically will increase risk of collision.

(b) Will make flying cross country more stressful.

(c) Proposed airspace is dangerous because it sits at the mouth or exit of the VFR corridor between the two huge Class B airspaces over Houston.

(d) KTME does not need Class D because it does not have a lot of traffic and it is not for the common good of all.

(e) Proposed airspace significantly reduces usable airspace for the majority to accommodate a few elite jets; Safety should be for the most pilots, not the richest. There are only a few IFR days where Class D might be beneficial; but there are many VFR flyers.

(f) Class D should not be implemented until tower existence is published.

(g) Will cause transition to South and cause flights and noise over residential areas of Katy, Cinco Ranch, and Brookshire. Should consider these alternatives: (1) No Class D; (2) Class D ceiling 1,500 AGL rather than 2,000 AGL; (3) Make southern border of Class D align with northern edge of I-10.

(h) VFR traffic will deviate around the south side putting west and east-bound traffic on potential collision course for the following reasons:

(1) By establishing Class D around KTME, this VFR traffic will choose to deviate around the south side of the proposed Class D. That will put west- and east-bound traffic on a potential collision course. Although in practice VFR traffic is often at 1,500′ even this far out west, it could fly at a higher altitude. However, even the Houston VFR flyway chart encourages VFR traffic to stay below 2,500′ in this area. Adhering to that recommended altitude would still require a deviation south around the proposed KTME Class-D, so the safety concern noted above still stands.

(2) VFR aircraft flying in opposite directions would normally have a 1,000 ft. separation between themselves (whole altitudes + 500 ft.). With only 1,500 foot above TME (2,500 ft to 4,000 ft) . . . what are the procedures for safe separation??? IFR are at the whole altitudes! So . . . If TME Class D has a ceiling of 2,500 ft, 2,600 ft to 3,900 ft is all that is left! In such a case. Only one VFR altitude is available [Eastbound: 3,500 ft] [FAR Part 91.159] and that leaves Westbound VFR traffic with dangerous choices. VFR traffic flying over TME at 2,100 with a 2,000 ft. corridor above TME is less likely than VFR traffic using 2,600 or 3,900 in a 1,500 ft. corridor. Westbound VFR won't have any option that will give them more than 400 ft. separation from Eastbound VFR or IFR traffic.

(i) Would have to drop 1,500 feet in order to land at West Houston Airport when coming from the West. Would we be better off with this traffic flying over Houston at 10,000 feet or around the Class B airspace?

(j) This would interfere with all the commercial flights coming into IAH and HOU.

(k) Directly effects VFR traffic on Victor airways.

(l) Rather than speak with the tower at KTME, aircraft will in all likelihood divert either north or south. This then increases over flights to X09 and the Gloster (1XO7) skydive location JIM MAIM.

(m) Eliminates practice area used by local pilots.

(n) IFR has no priority over VFR in uncontrolled airspace.

(o) Same result can be achieved by Class E controlled airspace to the ground, not just at nighttime like in this proposal, but for 24/24 instead of a daytime Class D. I would therefore propose to change the controlled airspace for KTME to Class E 24h instead of day Class D/Night Class E.

(p) IFR pilots could use Hobby.

(q) IFR pilots have the same obligation as VFR pilots to “See and Avoid” when in VMC.

(r) Aircraft diverting either north or south would put aircraft closer to the instrument approaches for KTME.

FAA response: The term corridor is generally used for the portion of I-10 that is underneath the Class B airspace; when the Class B airspace terminates, so does the corridor. It is important to note that the portion of the east/west I-10 corridor that lies inside the Class D does not underlie Class B. The VFR operation can still occur along I-10 either by circumnavigating the area approximately 14 flying miles or by establishing radio communications with the operating tower according to 14 CFR 91.126 or (if Class E airspace) 14 CFR 91.127. Since this area is not charted and the opening of TME was not widely known, the FAA has provided relief during this period by waiving the requirement to establish radio communications with the control tower during the airspace rulemaking process. 14 CFR 91.129 set minimum altitudes when operating in Class D airspace, unless otherwise required by the distance from cloud criteria, each pilot of a turbine-powered airplane and each pilot of a large airplane must climb to an altitude of 1,500 feet above the surface as rapidly as possible. The distance needed to climb to 1,500 feet does not make the option to cap the southern border at I-10 feasible. VFR aircraft departing to and from West Houston Airport could have a normal climb/descent profile by communicating with TME tower and receiving permission to transition through the airspace; this should not be approved if aircraft activity is in the same area. This would maintain or increase safety from today's environment.

This airspace action is not expected to cause any potentially significant environmental impacts, including no significant noise impacts. No extraordinary circumstances exists that warrant preparation of an environmental assessment.

When operating in VFR weather conditions, it is the pilot's responsibility to be vigilant so as to see and avoid other aircraft (14 CFR 91.113(a)). The Aeronautical Information Manual (AIM) recommends that for aircraft 8,000 feet AGL and below, extra vigilance be maintained and that monitoring an appropriate control frequency is to the VFR pilot's advantage to “get the picture of traffic in the area.” VFR pilots are to see and avoid other aircraft and to be extremely vigilant in congested VFR areas and Victor airways. Once again, an operating tower that meets the requirements of FAA Order 7400.2K, Chapter 17, is authorized Class D airspace. This proposal will have Class D airspace during tower operating hours and Class E surface area airspace during non-operating hours. The proposed altitude of 2,500 does not interfere with commercial traffic landing or departing IAH or HOU. The formal establishment of Class D airspace will allow for charting of the airspace dimensions and altitude which will provide notice to pilots to communicate or circumnavigate this area. The pilot will not be affected if the aircraft flies above 2,500 feet. The FAA acknowledges the inconvenience to the VFR pilot of flying at or above 2,500 feet and establishing radio communications with control towers. 14 CFR 91.126, Class G airspace; 14 CFR 91.127, Class E airspace require communication with the operating control tower (TME) unless otherwise authorized by ATC. The FAA does not agree that altitude compression will be constrained in this area since the floor of the Class B airspace is southeast of the proposed Class D airspace.

6. Comment: Three commenters stated that the proposed rulemaking (NPRM) should be to establish Class B Airspace in the Brookshire, TX area, instead of Class D and Class E Airspace. The commenters preferred to have the entire airspace controlled by the FAA. Some of the reasons cited in favor of Class B airspace were:

(a) A few miles north of the airport, the Class B airspace begins at 3,000 feet but the majority of the Class B area over the airport is 4,000 feet.

(b) Raising the top to meet the Class B further removes any confusion to transient traffic.

(c) TME, with its physical location near Houston's Corporate Energy Corridor and ample 6,610′ × 100′ runway, is attracting an ever growing number of larger and faster aircraft (turboprops and jets).

(d) Class D airspace tends to have less recreational flyers and experimental traffic that tend to increase immediate airport traffic congestion and noise with constant circling for touch and goes, etc.

FAA response: This airport and its location do not meet criteria for Class B airspace.

7. Comment: Supports Class E airspace only.

Five comments received supported the proposal of 2,500 feet if the airspace would be classified as Class E airspace.

FAA response: The requirement for VFR aircraft to establish radio communications is still in effect for Class G and/or Class E airspace; 14 CFR 91.126 and 14 CFR 91.127. Establishing the proposed Class D airspace will reduce the overall airspace dimensions. Approval to transit the area is still required; the benefit will be that all aircraft will have access to VFR charts and the airspace would be depicted.

14 CFR 91.127, Operating on or in the vicinity of an airport in Class E airspace, states:

(c) Communications with control towers. Unless otherwise authorized or required by ATC, no person may operate an aircraft to, from, through or on an airport having an operational control tower unless two-way radio communications are maintained between that aircraft and the control tower. Communications must be established prior to 4 nautical miles from the airport, up to and including 2,500 feet AGL. However, if the aircraft radio fails in flight, the pilot in command may operate that aircraft and land if weather conditions are at or above basic VFR weather minimums, visual contact with the tower is maintained, and a clearance to land is received. If the aircraft radio fails while in flight under IFR, the pilot must comply with 14 CFR 91.185.

8. Comment: No support for any change to the present airspace allocation.

Thirty-one comments received rejected the proposal entirely. An immediate return to the status quo was requested based on the long standing operations in this area. Additionally, many commenters cited the east/west I-10 corridor and the compression of the VFR navigable air space in the northeast affected area as a concern. The majority of comments provided for an alternate choice of a top altitude of 2,000 feet.

FAA response: The TME control tower opened October 1, 2014, and is operational; the status quo can no longer be maintained. The FAA is complying with all appropriate regulations.

9. Comment: Airspace compression in the northeast quadrant under Class B.

Twenty comments received concerned the compression of navigable airspace under Class B and Class D airspace around TME. Cited were safety concerns for VFR aircraft to squeeze into an already congested airspace. The concerns were departures of airports underneath the Class B, practice areas for student training, and the airspace compression along the east west I-10 corridor.

FAA response: The FAA has reviewed these concerns and agrees this is a compression of airspace with the establishment of Class D airspace. The proposal notes that 10 percent of the Class D footprint sits below the Class B shelf at 3,000 feet. The east/west I-10 corridor underlies Class B airspace; however, the portion of I-10 that does underlie the proposed Class D does not underlie Class B airspace. During the informal meetings this factor was taken into consideration and resulted in the proposed airspace being lowered from 2,700 feet to 2,500 feet to allow for more airspace. The compression to the northeast underlying Class B airspace is not considered the VFR corridor. The FAA believes this to have minimal impact on those aircraft that would have to fly around or over the proposed airspace.

The tower at Houston Executive Airport is established and the Class D and E airspace areas are being provided according to federal regulations. The Class D proposal to reduce the allowed footprint of the airspace provides for safe and efficient use of airspace. Class D enhances safety by setting VFR weather minima specified in 14 CFR 91.155 and through the communications and other requirements in 14 CFR 91.129 (and 14 CFR 91.127 for E airspace). Once Class D airspace is charted, the information is accessible to all pilots. The FAA understands the concerns of the commenters. However, the FAA chose the upper limit of the airspace at 2,500 feet to establish higher weather minima for VFR aircraft, transitioning above the airspace thus restricting access to VFR flights in the airspace while IFR operations are in progress. VFR aircraft transitioning at 2,000 feet through the airspace will still be allowed to do so as long as radio communications are established with the tower prior to the aircraft entering the Class D airspace, and no additional conflicts with other airspace users arise.

Class D and Class E airspace designations are published in paragraph 5000, 6002, and 6005, respectively, of FAA Order 7400.11A dated August 3, 2016, and effective September 15, 2016, which is incorporated by reference in 14 CFR part 71.1. The Class E airspace designations listed in this document will be published subsequently in the Order.

Availability and Summary of Documents for Incorporation by Reference

This document amends FAA Order 7400.11A, airspace Designations and Reporting Points, dated August 3, 2016, and effective September 15, 2016. FAA Order 7400.11A is publicly available as listed in the ADDRESSES section of this document. FAA Order 7400.11A lists Class A, B, C, D, and E airspace areas, air traffic service routes, and reporting points.

The Rule

This amendment to Title 14, Code of Federal Regulations (14 CFR) part 71 establishes Class D airspace, and Class E surface area airspace extending upward from the surface to and including 2,500 feet MSL within a 4-mile radius of Houston Executive Airport, excluding that airspace west and northwest, to accommodate the establishment of an airport traffic control tower. This action reduces the allowed 4 nautical mile radius around Houston Executive Airport to assist the operators transitioning in and out of Sport Flyers Airport without the need of establishing radio communications with Houston Executive Airport. The proposed cutout also allows for accommodation for a private airstrip to the southwest of Houston Executive Airport. This amendment to Title 14, Code of Federal Regulations (14 CFR) part 71 also establishes Class E airspace extending upward from 700 feet or more above the surface of the earth within a 6.6-mile radius of Houston Executive Airport, to accommodate standard instrument approach procedures. Controlled airspace is needed for the safety and management of IFR operations at the airport.

Class D and E airspace areas are published in paragraph 5000, 6002, and 6005, respectively, of FAA Order 7400.11A, dated August 3, 2016, and effective September 15, 2016, which is incorporated by reference in 14 CFR 71.1. The Class E airspace designations listed in this document will be published subsequently in the Order.

Regulatory Notices and Analyses

The FAA has determined that this regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exists that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120, E.O. 10854, 24 FR 9565, 3 CFR, 1959-1963 Comp., p. 389.

§ 71.1 [Amended]

2. The incorporation by reference in 14 CFR 71.1 of FAA Order 7400.11A, Airspace Designations and Reporting Points, dated August 3, 2016, effective September 15, 2016, is amended as follows:

Paragraph 5000 Class D Airspace.

ASW TX D Brookshire, TX [New]

Houston Executive Airport, TX

(Lat. 29°48′18″ N., long. 95°53′52″ W.)

That airspace extending upward from the surface to and including 2,500 feet MSL bounded by a line beginning at lat. 29°46′44″ N., long. 95°58′06″ W., to lat. 29°47′35″ N., long. 95°55′49″ W., to lat. 29°51′55″ N., long. 95°55′52″ W., thence clockwise along the 4-mile radius of Houston Executive Airport to the point of beginning. This Class D airspace area is effective during the specific dates and times established in advance by a Notice to Airmen. The effective date and time will thereafter be continuously published in the Chart Supplement.

* * * * *

Paragraph 6002 Class E Airspace Designated as Surface Areas.

ASW TX E2 Brookshire, TX [New]

Houston Executive Airport, TX

(Lat. 29°48′18″ N., long. 95°53′52″ W.)

That airspace extending upward from the surface to and including 2,500 feet MSL bounded by a line beginning at lat. 29°46′44″ N., long. 95°58′06″ W., to lat. 29°47′35″ N., long. 95°55′49″ W., to lat. 29°51′55″ N., long. 95°55′52″ W., thence clockwise along the 4-mile radius of Houston Executive Airport, to the point of beginning. This Class E airspace area is effective during the specific dates and times established in advance by a Notice to Airmen. The effective date and time will thereafter be continuously published in the Chart Supplement.

* * * * *

Paragraph 6005 Class E Airspace Areas Extending Upward From 700 Feet or More Above the Surface of the Earth.

ASW TX E5 Brookshire, TX [New]

Houston Executive Airport, TX

(Lat. 29°48′18″ N., long. 95°53′52″ W.)

That airspace extending upward from 700 feet above the surface within a 6.6-mile radius of Houston Executive Airport.

Issued in Fort Worth, TX, on September 14, 2016.
Vonnie L. Royal,
Manager, Operations Support Group, ATO Central Service Center.

[FR Doc. 2016-22723 Filed 9-21-16; 8:45 am]

BILLING CODE 4910-13-P